DEPARTMENT OF TRANSPORTATION

National Highway Traffic Safety Administration

Reports, Forms, and Recordkeeping Requirements

AGENCY: National Highway Traffic Safety Administration (NHTSA), DOT.

ACTION: Notice.

SUMMARY: In compliance with the Paperwork Reduction Act of 1995 (44 U.S.C. 3501 et seq.), this notice announces that the Information Collection Request (ICR) abstracted regarding the Petitions for Exemption from the Theft Prevention Standard below has been forwarded to the Office of Management and Budget (OMB) for review and comment. The ICR describes the nature of the information collections and their expected burden. The Federal Register Notice with a 60-day comment period was published on October 2, 2007 (72 FR 56130). The agency received no comments.

DATES: Comments must be submitted on or before April 14, 2008.

ADDRESSES: Send comments, within 30 days, to the Office of Information and Regulatory Affairs, Office of Management and Budget, 725 17th Street, NW., Washington, DC 20503, Attention NHTSA Desk Officer.

Comments Are Invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

FOR FURTHER INFORMATION CONTACT: Carlita Ballard at the National Highway Traffic Safety Administration, Office of International Policy, Fuel Economy and Consumer Programs (NVS-131), 1200 New Jersey Ave., SE., West Building, Room W43-439, NVS-131, Washington, DC 20590. Ms. Ballard's telephone number is (202) 366-0846. Please identify the relevant collection of information by referring to its OMB Control Number.

SUPPLEMENTARY INFORMATION:

National Highway Traffic Safety Administration

Title: Petitions for Exemption from the Vehicle Theft Prevention Standard (49 CFR part 543).

OMB Control Number: 2127-0542.

Type of Request: Request for public comment on a previously approved collection of information.

Abstract: Manufacturers of passenger vehicle lines may petition the agency for an exemption from Part 541 requirements, if the line is equipped with an anti-theft device as standard equipment and meets agency criteria. Device must be as effective as parts-marking. 49 U.S.C. Chapter 331 requires the Secretary of Transportation to promulgate a theft prevention standard to provide for the identification of certain motor vehicles and their major replacement parts to impede motor vehicle theft. 49 U.S.C. 33106 provides for an exemption to this identification process by petitions from manufacturers who equip covered vehicles with standard original equipment antitheft devices, which the Secretary determines are likely to be as effective in reducing or deterring theft as parts-marking. NHTSA may exempt a vehicle line from the parts marking requirement, if the manufacturer installs an antitheft device as standard equipment on the entire vehicle line for which it seeks an exemption and NHTSA determines that the antitheft device is likely to be as effective in reducing and deterring motor vehicle theft as compliance with the parts-marking requirements. In accordance with 49 U.S.C. 33106, after model year (MY) 2000, the number of new exemptions is contingent on a finding by the Attorney General as part of its long-range review of effectiveness. After consulting with DOJ, the agency decided it could continue granting one exemption per model year pending the results of the long-term review.

In a final rule published on April 6, 2004, the Federal Motor Vehicle Theft Prevention Standard was extended to include all passenger cars and multipurpose passenger vehicles with a gross vehicle rating of 6,000 pounds or less, and to light duty trucks with major parts that are interchangeable with a majority of the covered major parts of multipurpose passenger vehicles. Consistent with this DOJ consultation, the April 6, 2004 final rule amended the general requirements of § 543.5 of Chapter 49 of the Code of Federal Regulations, allowing a manufacturer to petition NHTSA to grant an exemption for one additional line of its passenger motor vehicles from the requirements of the theft prevention standard for each model year after MY 1996. The final rule became effective September 1, 2006.

Prior to September 1, 2006, manufacturers were only allowed to petition NHTSA for high-theft vehicles lines. In its April 6, 2004 final rule, the agency amended part 543 to allow vehicle manufacturers to file petitions to exempt all vehicle lines that would become subject to parts-marking requirements beginning with the effective date of the final rule. As a result of this amendment, vehicle manufacturers are allowed to file petitions to exempt all vehicles lines that would become subject to the parts-marking requirements regardless of their theft status (high or low).

Since the new parts-marking final rule became effective, the number of petitions requested from manufacturers will increase. NHTSA anticipates that there are approximately 27 vehicle manufacturers; since the effective date of the rule, 14 petitions for exemption from the parts-marking requirements have been received by the agency for MYs 2007-2010. We anticipate this to remain the average number of yearly responses received by the agency.

NHTSA estimates that the average hours per submittal will be 226, for a total annual burden of 3,164. This is an increase from the previous OMB inventory of 1,130 hours. NHTSA estimates that the cost associated with the burden hours is a $36.62 per hour, for a total cost of approximately $115,866.

Affected Public: Motor vehicle manufacturers.

Estimated Total Annual Burden: NHTSA estimates that the vehicle manufacturers will incur a total annual reporting hour and cost burden of 3,164 hours and $115,866. There would be no additional cost to motor vehicle manufacturers that would require it to comply to this regulation.

Issued on: March 7, 2008.
Stephen R. Kratzke,
Associate Administrator for Rulemaking.

[FR Doc. E8-5121 Filed 3-13-08; 8:45 am]

BILLING CODE 4910-59-P